DEPARTMENT OF DEFENSE

Department of the Army

Intent To Grant a Cooperative Research and Development Agreement for the Transfer and Use of a Unique Infrared Laser to University of Central Florida

AGENCY: Department of the Army, DoD.

ACTION: Notice.

SUMMARY: The U.S. Army's Aviation and Missile Research, Development, and Engineering Center (AMRDEC) announces that, unless there is an objection, after 15 days it contemplates granting a Cooperative Research and Development Agreement (CRADA) to University of Central Florida, College of Optics and Photonics, 4304 Scorpius Street, Orlando, FL 32816-2700.

DATES: Objections must be received within 15 days of this notice.

ADDRESSES: Send written objections or inquires to U.S. Army Aviation and Missile Research and Development Center (AMRDEC), ATTN: RDMR-CST (ORTA), 5400 Fowler Road, Redstone Arsenal, AL 35898, or Email: usarmy.redstone.rdecom-amrdec.mbx.orta@mail.mil.

FOR FURTHER INFORMATION CONTACT: Cindy Wallace at 256-313-0895.

SUPPLEMENTARY INFORMATION: Additional information about CRADAs may be found at https://www.amrdec.army.mil/amrdec/doing-business-with.html.

Brenda S. Bowen,
Army Federal Register Liaison Officer.

[FR Doc. 2017-17735 Filed 8-21-17; 8:45 am]

BILLING CODE 5001-03-P